NATIONAL AERONAUTICS AND SPACE ADMINISTRATION

[Notice (03-016)]

Aerospace Medicine Occupational Health Advisory Committee

AGENCY: National Aeronautics and Space Administration.

ACTION: Notice of meeting.

SUMMARY: In accordance with the Federal Advisory Committee Act, Public Law 92-463, as amended, the National Aeronautics and Space Administration announces a meeting of the Aerospace Medicine Occupational Health Advisory Committee.

DATES: Friday, March 14, 2003, 9 a.m. to 4 p.m.

ADDRESSES: National Aeronautics and Space Administration, 300 E Street, SW., Room 3H46 (MIC 3), Washington, DC. Attendees must check in at the Security Desk at the West Lobby (4th and E Streets) and be escorted to the conference room.

FOR FURTHER INFORMATION CONTACT: Ms. Pam Barnes, Code AM, National Aeronautics and Space Administration, Washington, DC, 20546, 202/358-2390.

SUPPLEMENTARY INFORMATION: The meeting will be open to the public up to the seating capacity of the room. The agenda for the meeting is as follows:

—Opening Remarks by Chief Health and Medical Officer

—Charter of Committee replacing former Aerospace Medicine Occupational Health Advisory Subcommittee

—Aerospace Medicine Highlights and Issues

—Occupational Health Highlights and Issues

—Open discussion and action assignments

—Next Meeting

—Closing Comments

It is imperative that the meeting be held on this date to accommodate the scheduling priorities of the NASA Advisory Council which is also meeting at the Stennis Space Center on March 19 and 20, 2003. Visitors will be requested to sign a visitor's register. Due to the increased security at NASA facilities, any members of the public who wish to attend this first meeting of the Aerospace Medicine Occupational Health Advisory Committee must provide their name, date and place of birth, citizenship, social security number, or passport and visa information (number, country of issuance and expiration), business address and phone number, if any. This information is to be provided at least 72 hours (5 PM EDT on March 14, 2003) prior to the date of the public meeting. Identification information is to be provided to Pam Barnes, (202) 358-2390, pbarnes@hq.nasa.gov. Failure to timely provide such information may result in denial of attendance. Photo identification may be required for entry into the building. Persons with disabilities who require assistance should indicate this in their message. Due to limited availability of seating, members of the public will be admitted on a first-come, first-serve basis. News media wishing to attend the meeting should follow standard accreditation procedures. Members of the press who have questions about these procedures should contact the NASA Headquarters newsroom (202/358-1600).

June W. Edwards,
Advisory Committee Management Officer, National Aeronautics and Space Administration.

[FR Doc. 03-3997 Filed 2-18-03; 8:45 am]

BILLING CODE 7510-01-P